NUCLEAR REGULATORY COMMISSION

Advisory Committee on Nuclear Waste; Notice of Meeting

The Advisory Committee on Nuclear Waste (ACNW) will hold its 123rd meeting on November 27-29, 2000, at the Center for Nuclear Waste Regulatory Analyses (CNWRA), 6220 Culebra Road, Building 189, San Antonio, Texas.

The entire meeting will be open to public attendance.

The schedule for this meeting is as follows:

Monday, November 27, 2000

A. 9:00-11:00 A.M.: Opening Statement/Planning and Procedures (Open)—The Chairman will open the meeting with brief opening remarks. The Committee will then review items under consideration at this meeting and consider topics proposed for future consideration by the full Committee.

B. 11:15-12:00 Noon: Preparation of ACNW Reports (Open)—The Committee will discuss planned reports on the following topics: 10 CFR Part 40, entombment, transportation and Alloy C-22.

C. 1:00-1:15 P.M.: Objectives of ACNW's CNWRA Review (Open)—The Committee will discuss the objectives of this review of the CNWRA's research and technical assistance program.

D. 1:15-2:15 P.M.: Program Overview: Developing Review Capability and Risk Information for Pre-and Post-Closure (Open)—The Committee will discuss and hear presentations from representatives of the NRC staff, the CNWRA and consultants regarding a proposed regulatory framework, regulatory guidance for site 2 recommendation and license application reviews, analytical tools, and field and laboratory experimental facilities.

E. 2:30-4:00 P.M.: Progress Toward Key Technical Issue Resolution (Open)—The Committee will discuss and hear a presentation from the NRC staff regarding the issue resolution process and its current status.

F. 4:00-6:00 P.M.: ACNW's Sufficiency Review Task Action Plan (Open)—The Committee will discuss its Sufficiency Review Task Action Plan.

G. 6:00-7:00 P.M.: Discussion of Proposed ACNW Reports (Open)—The Committee will discuss proposed ACNW Reports on Part 40, entombment, transportation, Alloy C-22 and other matters considered during this meeting.

Tuesday, November 28, 2000

H. 8:30-10:00 A.M.: Yucca Mountain TPA Code and External Review (Open)—The Committee will discuss the TPA external review and current and planned code capability.

I. 10:15-12:30 P.M.: Capability of NRC Staff to Evaluate Risk-Significance of Information Submitted by DOE for Post-Closure (Open)—The Committee will hear presentations on the analytical tools and methods for evaluating the relative importance of issues and subissues, parameter-level sensitivity methods, post-processor techniques, philosophy for addressing uncertainty, and the use of the TPA code to support decision making for SR and LA.

J. 1:30-2:45 P.M.: Pre-Closure Safety Analysis (PCSA) Tool (Open)—The Committee will discuss the status of the PCSA and an example application.

K. 3:00-5:00 P.M.: Alloy C-22 Studies (Open)—The Committee will review the DOE waste package material selection and degradation studies and applicable CNWRA confirmatory studies.

L. 5:00-6:00 P.M.: Draft NRC/RES Plan for Waste Research (Open)—The Committee will discuss and review the Draft Plan for Research Supporting the Nuclear Waste Safety Arena.

M. 6:00-7:00 P.M.: Discussion of Proposed ACNW Reports (Open)—The Committee will continue its discussion of proposed ACNW reports.

Wednesday, November 29, 2000

N. 8:30-10:30 A.M.: Tour of Experimental Facilities—The Committee will tour selected CNWRA experimental facilities.

O. 10:30-12:00 Noon: Investigation and Importance of Coupled Processes Related to Repository Design (Open)—The Committee will discuss ongoing CNWRA coupled processes investigations.

P. 12:00-12: 30 P.M.: Miscellaneous (Open)—The Committee will discuss matters related to the conduct of Committee activities and matters and specific issues that were not completed during previous meetings, as time and availability of information permit.

Procedures for the conduct of and participation in ACNW meetings were published in the Federal Register on October 11, 2000 (65 FR 60475). In accordance with these procedures, oral or written statements may be presented by members of the public, electronic recordings will be permitted only during those portions of the meeting that are open to the public, and questions may be asked only by members of the Committee, its consultants, and staff. Persons desiring to make oral statements should notify Howard J. Larson, ACNW, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Larson as to their particular needs.

Further information regarding topics to be discussed, whether the meeting has been canceled or rescheduled, the Chairman's ruling on requests for the opportunity to present oral statements and the time allotted therefore can be obtained by contacting Mr. Howard J. Larson, ACNW (Telephone 301/415-6805), between 8:00 A.M. and 5:00 P.M. EDT.

ACNW meeting notices, meeting transcripts, and letter reports are now available for downloading or reviewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EDT at least 10 days before the meeting to ensure the availability of this service. Individuals or organizations requesting this service will be responsible for telephone line charges and for providing the equipment and facilities that they use to establish the videoteleconferencing link. The availability of videoteleconferencing services is not guaranteed.

The ACNW meeting dates for Calendar Year 2001 are provided below:

ACNW Meeting No. and Meeting Date

124th (Rockville, MD): January 16-18, 2001

February 2001—No meeting

125th (Rockville, MD): March 6-8, 2001

April 2001—No meeting

126th (Rockville, MD):

May 15-17, 2001

127th (Rockville, MD): June 19-21, 2001

128th (Rockville, MD): July 17-19, 2001

129th (Rockville, MD): August 28-30, 2001

September 2001—No meeting

130th (Las Vegas, NV): October 16-18, 2001

131st (Rockville, MD): November 27-29, 2001

December 2001—No meeting

Dated: November 7, 2000.
Andrew L. Bates,
Advisory Committee Management Officer.

[FR Doc. 00-29032 Filed 11-13-00; 8:45 am]

BILLING CODE 7590-01-P